DEPARTMENT OF COMMERCE

National Oceanic and Atmospheric Administration

[XRIN: 0648-XA65]

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting, on June 19-21, 2007, to consider actions affecting New England fisheries in the exclusive economic zone (EEZ).

DATES: The meeting will be held on Tuesday, June 19 beginning at 8:30 a.m., and Wednesday and Thursday, June 20-21, beginning at 8 a.m. each day.

ADDRESSES: The meeting will be held at the Eastland Park Hotel , 157 High Street, Portland, ME 04101; telephone: (207) 775-5411.

Council address: New England Fishery Management Council, 50 Water Street, Mill 2, Newburyport, MA 01950.

FOR FURTHER INFORMATION CONTACT: Paul J. Howard, Executive Director, New England Fishery Management Council (NEFMC); telephone: (978) 465-0492.

SUPPLEMENTARY INFORMATION:

Tuesday, June 19, 2007

Following introductions, the Council will hear a series of brief reports from the Council Chairman and Executive Director, the NOAA Northeast Regional Administrator, Northeast Fisheries Science Center and Mid-Atlantic Fishery Management Council liaisons, NOAA General Counsel and representatives of the U.S. Coast Guard, NOAA Enforcement, and the Atlantic States Marine Fisheries Commission. Following these reports, the Council will be asked to comment on procedures related to the Magnuson-Stevens Act requirement for a referendum on any individual fishing quota program under consideration by the Council. Following consultation with all eight Fishery Management Councils, NOAA Fisheries will publish a proposed rule to address the referendum process, voter eligibility and related issues. The Enforcement Committee will ask for approval of recommendations concerning the use of “safe harbors” and requiring a declaration before transiting closed areas. During the afternoon session, the Council plans to approve final action on phase one of Essential Fish Habitat (EFH) Omnibus Amendment 2. This part of the overall amendment includes improved EFH designations for the species under Council management; new and/or modified HAPC designations; an evaluation of prey species for NEFMC-managed species and life stages; and an evaluation and description of the impacts of non-fishing activities on EFH, including conservation and enhancement activities. The Sector Committee will seek approval of terms of reference as it continues to work on processes and policies that will govern the use of sectors in NEFMC fishery management plans (FMPs). The Council may determine if they will develop a policy only concerning sectors or move forward with an omnibus amendment that would apply to sectors in all fishery management plans.

Wednesday, June 20, 2007

The Council will review public comments and intends to approve a Draft Supplemental Environmental Impact Statement and final management measures for Amendment 11 to the Sea Scallop Fishery Management Plan. It also will review and may approve Framework Adjustment 20 the the FMP, an action to extend measures implemented by emergency action to prevent overfishing through the end of fishing year 2007. During this afternoon session, the Council will discuss and possibly approve a request to NOAA Fisheries for at-sea observer coverage on all at-sea processor vessels.

Thursday, June 21, 2007

The Council's Research Steering Committee Chairman will report on the committee's recommendations concerning the use of information provided in several cooperative research final reports. This will be followed by a discussion of other issues related to cooperative research, including comments on a peer review of a pilot study fleet cooperative research project, experimental fisheries permit policies and issues related to data archiving and access in the context of making cooperative research results available. This discussion will be followed by an opportunity for the public to briefly address items that are relevant to Council business but not otherwise listed on the agenda. The Groundfish Committee will report on its efforts to develop Amendment 16 to the Northeast Multispecies FMP. The Council will review and approve recommendations for management alternatives in amendment. It may also approve standards to be used by the Regional Administrator to allow the use of additional gear in the Eastern U.S. Canada Haddock Special Access Program and trawl gear Category B regular) days-at-sea program, as well a number of recently received sector proposals. The Standardized Bycatch Reporting Methodology (SBRM) Committee will review and ask for approval of the final SBRM Amendment during the afternoon session. This action would modify all Council fishery management plans (FMPs) to include SBRM provisions. Lastly, the Council intends to approve skate management alternatives to be analyzed in proposed Amendment 3 to the Skate FMP.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: May 31, 2007.
Tracey L. Thompson,
Acting Director, Office of Sustainable Fisheries, National Marine Fisheries Service.

[FR Doc. E7-10775 Filed 6-4-07; 8:45 am]

BILLING CODE 3510-22-S